DEPARTMENT OF TRANSPORTATION

National Highway Traffic Safety Administration

[Docket No. NHTSA-2019-0079; Notice 2]

Nissan North America, Inc., Grant of Petition for Decision of Inconsequential Noncompliance

AGENCY: National Highway Traffic Safety Administration (NHTSA), Department of Transportation (DOT).

ACTION: Grant of petition.

SUMMARY: Nissan North America, Inc., (Nissan) has determined that certain model year (MY) 2019 Nissan Armada motor vehicles do not fully comply with Federal Motor Vehicle Safety Standard (FMVSS) No. 108, Lamps, Reflective Devices, and Associated Equipment. Nissan filed a noncompliance report dated July 1, 2019. Nissan also petitioned NHTSA on July 24, 2019, for a decision that the subject noncompliance is inconsequential as it relates to motor vehicle safety. This document announces the grant of Nissan's petition.

FOR FURTHER INFORMATION CONTACT: Leroy Angeles, Office of Vehicle Safety Compliance, the National Highway Traffic Safety Administration (NHTSA), telephone (202) 366-5304, facsimile (202) 366-3081.

SUPPLEMENTARY INFORMATION: I. Overview: Nissan has determined that certain MY 2019 Nissan Armada motor vehicles do not fully comply with S7.4.13.1 of FMVSS No. 108, Lamps, Reflective Devices, and Associated Equipment (49 CFR 571.108). Nissan filed a noncompliance report dated July 1, 2019, pursuant to 49 CFR part 573, Defect and Noncompliance Responsibility and Reports. Nissan also petitioned NHTSA on July 24, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

Notice of receipt of Nissan's petition was published with a 30-day public comment period, on October 15, 2019, in the Federal Register (84 FR 55220). No comments were received. To view the petition and all supporting documents log onto the Federal Docket Management System (FDMS) website at https://www.regulations.gov/. Then follow the online search instructions to locate docket number “NHTSA-2019-0079.”

II. Vehicles Involved: Approximately 3,009 MY 2019 Nissan Armada motor vehicles, manufactured between September 13, 2018, and October 23, 2018, are potentially involved.

III. Noncompliance: Nissan explains that the noncompliance is that the subject vehicles are equipped with front combination lighting assemblies that do not meet the photometric intensity requirements as required by paragraph S7.4.13.1 of FMVSS No. 108. Specifically, the inner lens of the side marker lamp is not seated properly in the headlamp assembly, thus, creating a gap between the forward edge of the reflector and the extension portion of the headlamp assembly. When tested, the photometric intensity of the side marker lamp fell below the minimum photometric intensity required on one of the 20 headlamp assemblies tested.

IV. Rule Requirements: Paragraph S7.4.13.1 of FMVSS No. 108 includes the requirements relevant to this petition. Each side marker lamp must be designed to conform to the photometry requirements of Table X, when tested according to the procedure of S14.2.1, for the lamp color as specified by FMVSS No. 108.

V. Summary of Nissan's Petition: The following views and arguments presented in this section, V. Summary of Nissan's petition, are the views and arguments provided by Nissan.

Nissan described the subject noncompliance and stated its belief that the noncompliance is inconsequential as it relates to motor vehicle safety. Nissan submitted the following views and arguments in support of the petition:

1. Due to a manufacturing issue affecting only the driver's side marker lamp, the reflex reflector (which also serves as the inner lens for the side marker) may not be seated properly in the headlamp assembly, creating a gap between the forward edge of the reflector and the extension portion of the headlamp assembly. The reflector is restrained from further movement by the outer lens of the headlamp. The manufacturing issue has been corrected.

2. Even in the worst-case displaced position, the side marker lamp is only minimally below photometric intensity requirement at one test point. Nissan has judged that the minimal difference in photometric intensity between the lamp that tested below standard and a lamp meeting the minimum standard is not perceptible to the human observer. (See, Subaru of America, Grant of Petition, 56 FR 59971 (Nov. 26, 1991); Hella, Inc., Grant of Petition, 55 FR 37601 (Sept. 12, 1990)).

3. Moreover, in the subject vehicles, the parking lamp wraps around the corners of the headlamp assembly and adds additional illumination in the region where testing showed the photometric intensity of the side marker lamp to be slightly below standard. On the affected MY 2019 Armada vehicles, the parking lamps are on the same circuit as the side marker lamps and therefore always illuminate in conjunction with the side marker lamps.

4. When tested as a unit in real-world conditions, the photometric intensity of the combined parking and side marker lamps is above the required 0.62 cd for all test points.

5. In the event the inner lens was to move out of position, the complimentary illumination from the parking lamp compensates for the slight reduction in photometric intensity of the side marker lamp over an exceedingly small range. Therefore, in actual usage conditions, the presence of an affected vehicle is conspicuous and in Nissan's judgment, there is no perceivable difference in the visibility of the subject vehicles compared to compliant vehicles to drivers and pedestrians on the road.

6. In similar situations, NHTSA has granted the applications of other petitioners in which a minor deviation from the standard was deemed imperceptible and therefore inconsequential to safety (See, e.g., BMW of N.Am., LLC, Grant of Petition, 82 FR 55484 (Nov. 21, 2017); Osram Sylvania Prods., Inc., Grant of Petition, 78 FR 46000 (July 30, 2013)). While Nissan recognizes that NHTSA has denied petitions claiming complimentary illumination, those petitions are distinguishable due to the greater extent of the reduction in illumination over a wider affected area.

Nissan concluded by expressing the belief that the subject noncompliance is inconsequential as it relates to motor vehicle safety, and that its petition to be exempted from providing notification of the noncompliance, as required by 49 U.S.C. 30118, and a remedy for the noncompliance, as required by 49 U.S.C. 30120, should be granted.

VI. NHTSA's Analysis: The intent of FMVSS No. 108 is to reduce traffic accidents and deaths and injuries resulting from traffic accidents, by providing adequate illumination on the roadway, and by enhancing the conspicuity of motor vehicles on the public roads so that their presence is perceived and their signals understood, both in daylight and in darkness or other conditions of reduced visibility.

Nissan offers two main arguments supporting the notion that the noncompliance at issue here is inconsequential to safety. One contention relies on the proximity of the parking lamp to the side marker lamp and the fact that both will be illuminated simultaneously. As both will be lit, Nissan contends that the light from the parking lamp will offset the substandard output of the side marker lamp and result in no net loss of visibility. Another contention is that the condition causing the noncompliance results in a photometric intensity test result of 15% below the minimum requirement at 1 of 14 test points, a loss that cannot be detected by an unaided human eye.

NHTSA finds the former argument unpersuasive and the latter contention to be compelling. The purpose of the side marker is to aid in the visibility of a motor vehicle at night. Nissan's argument of complementary illumination from the parking lamp is not convincing since the parking lamp illumination is white, not amber and could cause a passing motorist to have difficulty determining what part of the vehicle is approaching. In contrast to the obvious difference between a white parking light and an amber side marker light, a small reduction in photometric intensity is imperceptible. Nissan cited multiple prior petitions where NHTSA conceded this fact and granted petitions for inconsequential noncompliance. The granting of Hella Inc.'s (55 FR 37601) and Subaru of America's (56 FR 59971) petitions, where the imperceptible difference in illumination directed the conclusion that a noncompliance was inconsequential, are applicable here. As the Agency explained when it granted the inconsequentiality petition filed by Hella, Inc. “a reduction of approximately 25 percent in luminous intensity is required before the human eye can detect the difference between the two lamps.”

VII. NHTSA's Decision: In consideration of the foregoing, NHTSA finds that Nissan has met its burden of persuasion that the subject FMVSS No. 108 noncompliance in the affected vehicles is inconsequential to motor vehicle safety. Accordingly, Nissan's petition is hereby granted. Nissan is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that Nissan no longer controlled at the time it determined that the noncompliance existed. However, the granting of this petition does not relieve vehicle distributors and dealers of the prohibitions on the sale, offer for sale, or introduction or delivery for introduction into interstate commerce of the noncompliant vehicles under their control after Nissan notified them that the subject noncompliance existed.

(Authority: 49 U.S.C. 30118, 30120: delegations of authority at 49 CFR 1.95 and 501.8)

Otto G. Matheke III,
Director, Office of Vehicle Safety Compliance.

[FR Doc. 2020-14215 Filed 6-30-20; 8:45 am]

BILLING CODE 4910-59-P